DEPARTMENT OF THE INTERIOR

Bureau of Land Management

[NM-030-1430-EU; NMNM 100778]

Recreation and Public Purposes (R&PP) Act Classification; Lease and Conveyance of Public Land in Sierra County, NM

AGENCY: Bureau of Land Management (BLM), Interior.

ACTION: Correction.

SUMMARY: In Federal Register, Vol. 70, No. 2, Notices, beginning on page 379 in the issue of Tuesday, January 4, 2005, make the following correction. Under the SUPPLEMENTARY INFORMATION heading, the legal description should read:

New Mexico Principal Meridian

T. 13 S., R. 4 W., NMPM

Sec. 10, lot 5

Containing 5 acres, more or less.

Dated: January 27, 2005.
Edwin L. Roberson,
Field Manager, Las Cruces.

[FR Doc. 05-2084 Filed 2-2-05; 8:45 am]

BILLING CODE 4310-VC-P